DEPARTMENT OF HOMELAND SECURITY

Federal Emergency Management Agency

[FEMA-1624-DR]

Texas; Amendment No. 8 to Notice of a Major Disaster Declaration

AGENCY: Federal Emergency Management Agency, Department of Homeland Security.

ACTION: Notice.

SUMMARY: This notice amends the notice of a major disaster declaration for the State of Texas (FEMA-1624-DR), dated January 11, 2006, and related determinations.

DATES: Effective Date: May 17, 2006.

FOR FURTHER INFORMATION CONTACT: Magda Ruiz, Recovery Division, Federal Emergency Management Agency, Washington, DC 20472, (202) 646-2705.

SUPPLEMENTARY INFORMATION: The notice of a major disaster declaration for the State of Texas is hereby amended to include the following areas among those areas determined to have been adversely affected by the catastrophe declared a major disaster by the President in his declaration of January 11, 2006:

Johnson County for Individual Assistance (already designated for Public Assistance Category B (emergency protective measures), subject to subsequent designation by FEMA for reimbursement.)

Collingsworth, Donley, and Lipscomb Counties for Category F (utilities) under the Public Assistance program (already designated for Public Assistance Category B (emergency protective measures)). All categories of assistance under the Public Assistance program are subject to subsequent designation by FEMA for reimbursement.

Eastland, Gray, Hutchinson, and Wheeler Counties for Category F (utilities) under the Public Assistance program (already designated for Individual Assistance and Public Assistance Category B (emergency protective measures)). All categories of assistance under the Public Assistance program are subject to subsequent designation by FEMA for reimbursement.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program-Other Needs, 97.036, Public Assistance Grants; 97.039, Hazard Mitigation Grant Program.)

R. David Paulison,
Acting Director, Federal Emergency Management Agency, Department of Homeland Security.

[FR Doc. E6-9623 Filed 6-19-06; 8:45 am]

BILLING CODE 9110-10-P